DEPARTMENT OF ENERGY

Federal Energy Regulatory Commission

[Docket No. EG00-169-000, et al.]

GenPower Dell, LLC, et al.; Electric Rate and Corporate Regulation Filings

June 16, 2000.

Take notice that the following filings have been made with the Commission:

1. GenPower Dell, LLC

[Docket No. EG00-169-000]

Take notice that on June 13, 2000, GenPower Dell, LLC (Applicant), a Delaware limited liability company, whose address is 1040 Great Plain Avenue, Needham, MA, tendered for filing with the Federal Energy Regulatory Commission an application for determination of exempt wholesale generator status pursuant to Part 365 of the Commission's Regulations.

Applicant intends to construct an approximate 600 MW natural gas-fired combined cycle independent power production facility in Dell, Arkansas (the Facility). The Facility is currently under development and will be owned by Applicant. Electric energy produced by the Facility will be sold by Applicant to the wholesale power market in the southern United States.

Comment date: July 7, 2000, in accordance with Standard Paragraph E at the end of this notice. The Commission will limit its consideration of comments to those that concern the adequacy or accuracy of the application.

2. GenPower McAdams, LLC

[Docket No. EG00-170-000]

Take notice that on June 12, 2000, GenPower McAdams, LLC (Applicant), a Delaware limited liability company, whose address is 1040 Great Plain Avenue, Needham, MA, tendered for filing with the Federal Energy Regulatory Commission an application for determination of exempt wholesale generator status pursuant to Part 365 of the Commission's Regulations.

Applicant intends to construct an approximate 640 MW natural gas-fired combined cycle independent power production facility in Sallis, Mississippi (the Facility). The Facility is currently under development and will be owned by Applicant. Electric energy produced by the Facility will be sold by Applicant to the wholesale power market in the southern United States.

Comment date: July 7, 2000, in accordance with Standard Paragraph E at the end of this notice. The Commission will limit its consideration of comments to those that concern the adequacy or accuracy of the application.

3. Central Power and Light Company, West Texas Utilities Company, Public Service Company of Oklahoma, Southwestern Electric Power Company

[Docket No. ER99-897-002]

Take notice that on June 13, 2000, Central Power and Light Company, West Texas Utilities Company, Public Service Company of Oklahoma, and Southwestern Electric Power Company (collectively, the CSW Operating Companies) tendered for filing a refund report pursuant to the Commission's March 30, 2000 order in the above-captioned docket regarding refunds under the CSW Operating Companies' open access transmission service tariff.

A copy of this filing has been served on each person designated on the official service list compiled by the Secretary in this proceeding, each of the affected wholesale customers, and on the Arkansas Public Service Commission, the Louisiana Public Service Commission, the Oklahoma Corporation Commission and the Public Utility Commission of Texas.

Comment date: July 5, 2000, in accordance with Standard Paragraph E at the end of this notice.

4. New York Independent System Operator, Inc.

[Docket No. ER00-2813-000]

Take notice that on June 13, 2000, the New York Independent System Operator, Inc. (NYISO), tendered for filing an Inter Control Area Transactions Agreement between it and the PJM Interconnection, LLC, pursuant to which either party may purchase emergency energy.

The NYISO requests an effective date of May 1, 2000 and waiver of the Commission's notice requirements.

A copy of this filing was served upon the NYISO, PJM and upon the electric utility regulatory agencies in New York, New Jersey, Pennsylvania, Maryland, Delaware, Virginia and the District of Columbia.

Comment date: July 5, 2000, in accordance with Standard Paragraph E at the end of this notice.

5. Commonwealth Edison Company

[Docket No. ER00-2814-000]

Take notice that on June 13, 2000, Commonwealth Edison Company (ComEd) tendered for filing an executed Dynamic Scheduling Agreement (Agreement) with Commonwealth Edison Company, in its Wholesale Merchant Function (WMD) under the terms of ComEd's Open Access Transmission Tariff (OATT).

ComEd requests that the Commission substitute the Agreement with WMD for the unexecuted agreement previously filed under the OATT in Docket No. ER00-940-000 on December 29, 1999.

ComEd requests the same January 1, 2000, effective date for the Agreement that ComEd requested when it submitted the unexecuted agreement with WMD to the Commission in Docket No. ER00-940-000. This Agreement is being substituted for the unexecuted agreement currently on file, and therefore ComEd seeks waiver of the Commission's notice requirements.

Copies of this filing were served on WMD.

Comment date: July 5, 2000, in accordance with Standard Paragraph E at the end of this notice.

6. Wheelabrator Shasta Energy Company Inc.

[Docket No. ER00-2815-000]

Take notice that on June 13, 2000, Wheelabrator Shasta Energy Company Inc. (Shasta Energy), a corporation organized under the laws of the State of Delaware, petitioned the Commission for: (1) Acceptance of Shasta Energy's proposed Rate Schedule FERC No. 2; (2) waiver of the 60-day notice requirement and certain requirements under Subparts B and C of Part 35 of the Regulations; and (3) the blanket approvals normally accorded sellers permitted to sell at market-based rates. Shasta Energy is an indirect subsidiary of Wheelabrator Technologies Inc.

Comment date: July 5, 2000, in accordance with Standard Paragraph E at the end of this notice.

7. Entergy Services, Inc.

[Docket No. ER00-2816-000]

Take notice that on June 13, 2000, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-to-Point Transmission Service Agreement between Entergy Services, Inc., as agent for the Entergy Operating Companies, and Entergy Services, Inc. (EMO).

Comment date: July 5, 2000, in accordance with Standard Paragraph E at the end of this notice.

8. Entergy Services, Inc.

[Docket No. ER00-2817-000]

Take notice that on June 13, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and NewEnergy, Inc.

Comment date: July 5, 2000, in accordance with Standard Paragraph E at the end of this notice.

9. Entergy Services, Inc.

[Docket No. ER00-2818-000]

Take notice that on June 13, 2000, Entergy Services, Inc., on behalf of Entergy Arkansas, Inc., Entergy Gulf States, Inc., Entergy Louisiana, Inc., Entergy Mississippi, Inc., and Entergy New Orleans, Inc., (collectively, the “Entergy Operating Companies”) tendered for filing a Non-Firm Point-To-Point Transmission Service Agreement and a Short-Term Firm Point-To-Point Transmission Service Agreement both between Entergy Services, Inc., as agent for the Entergy Operating Companies, and El Paso Merchant Energy, L.P.

Comment date: July 5, 2000, in accordance with Standard Paragraph E at the end of this notice.

10. Madison Gas and Electric Company

[Docket No. ER00-2819-000]

Take notice that on June 13, 2000, Madison Gas and Electric Company (MGE), tendered for filing a service agreement under MGE's Market-Based Power Sales Tariff with Conectiv Energy Supply, Inc., Inpower Marketing Corp.

MGE requests this agreement be effective the date the agreement was filed with the FERC. MGE is requesting this in order to enable the parties to commence transactions and capture the economic benefits of the service as soon as possible.

Comment date: July 5, 2000, in accordance with Standard Paragraph E at the end of this notice.

11. Indianapolis Power & Light Company

[Docket No. ER00-2820-000]

Take notice that on June 13, 2000, Indianapolis Power & Light Company (IPL), tendered for filing service agreements executed under IPL's Open Access Transmission Tariff and an index of customers.

Comment date: July 5, 2000, in accordance with Standard Paragraph E at the end of this notice.

12. Ohio Valley Electric Corporation

[Docket No. ER00-2822-000]

Take notice that on June 13, 2000, Ohio Valley Electric Corporation (OVEC), tendered for filing Modification No. 13 (Mod. No. 13), dated as of May 24, 2000, to the Inter-Company Power Agreement dated July 10, 1953 among OVEC and certain other utility companies named with the agreement as “Sponsoring Companies” (the “Inter-Company Power Agreement”). The Inter-Company Power Agreement bears the designation “Ohio Valley Electric Corporation Rate Schedule FPC No. 1-B.”

Mod. No. 13 is part of an arrangement intended to make additional electricity available to OVEC's Sponsoring Companies during the summer of 2000 and to provide the United States Department of Energy with payments in exchange for its release of a portion of its entitlement of such electricity.

OVEC has requested that the changes to the Inter-Company Power Agreement become effective as of June 1, 2000.

Copies of the filing were served upon Allegheny Energy Supply Company, L.L.C., Appalachian Power Company, The Cincinnati Gas & Electric Company, Columbus Southern Power Company, The Dayton Power and Light Company, Indiana Michigan Power Company, Kentucky Utilities Company, Louisville Gas and Electric Company, Monongahela Power Company, Ohio Edison Company, Ohio Power Company, Pennsylvania Power Company, The Potomac Edison Company, Southern Indiana Gas and Electric Company, The Toledo Edison Company, West Penn Power Company, the Utility Regulatory Commission of Indiana, The Public Service Commission of Kentucky, the Public Service Commission of Maryland, the Public Utilities Commission Michigan, the Public Utilities Commission of Ohio, the Public Utility Commission of Pennsylvania, Tennessee Regulatory Authority, the State Corporation Commission of Virginia and the Public Service Commission of West Virginia.

Comment date: July 5, 2000, in accordance with Standard Paragraph E at the end of this notice.

13. Cleco Utility Group, Inc.

[Docket No. ES00-44-000]

Take notice that on June 12, 2000, Cleco Utility Group, Inc. submitted a filing pursuant to section 204 of the Federal Power Act seeking authorization to issue short-term indebtedness in an amount not to exceed $150 million over a two year period.

Comment date: July 7, 2000, in accordance with Standard Paragraph E at the end of this notice.

14. Wolverine Power Supply Cooperative., Inc.

[Docket No. ES00-45-000]

Take notice that on June 14, 2000, Wolverine Power Supply Cooperative, Inc. (Wolverine), tendered for filing an application pursuant to Section 204 of the Federal Power Act seeking authorization to enter into a loan agreement with the National Rural Utilities Cooperative Finance Corporation under which Wolverine would assume up to $20,000,000 in long-term debt.

Wolverine also requests an exemption from the Commission's competitive bidding and negotiated placement requirements in 18 CFR 34.2.

Comment date: July 7, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers
Secretary.

[FR Doc. 00-15786 Filed 6-21-00; 8:45 am]

BILLING CODE 6717-01-P